POSTAL RATE COMMISSION

Sunshine Act Meetings

Name of Agency: Postal Rate Commission.

Time and Date: Tuesday, November 16, 2004, at 2:30 p.m.

Place: Commission conference room, 1333 H Street, NW., Suite 300, Washington, DC 20268—0001.

Status: Closed.

Matters to be Considered: Consideration of Docket No. MC2004-3, Rate and Service Changes to Implement Functionally Equivalent Negotiated Service Agreement with Bank One Corporation.

Contact Person for More Information: Stephen L. Sharfman, General Counsel, Postal Rate Commission, Suite 300, 1333 H Street, NW., Washington, DC 20268-0001, 202-789-6820.

Dated: November 8, 2004.
Steven W. Williams,
Secretary.

[FR Doc. 04-25297 Filed 11-9-04; 12:57 pm]

BILLING CODE 7710-FW-M